DEPARTMENT OF AGRICULTURE

Forest Service

Klamath National Forest, CA; Thom-Seider Vegetation Management and Fuel Reduction Project

AGENCY: Forest Service, USDA.

ACTION: Notice of intent to prepare an environmental impact statement.

SUMMARY: Land managers propose the Thom-Seider Vegetation Management and Fuel Reduction Project to reduce fuel hazard and restore forest health on Klamath National Forest System lands. The project area is situated on both sides of the Klamath River between Hamburg and Happy Camp, California. Thinning and understory burning (underburning) is proposed for approximately 30,000 acres of strategic areas selected for their location, topography, stand structure, density, age and condition. The project is intended to reduce the potential for high-severity wildland fires to harm people, private and public land, and older forest habitats.

DATES: Comments postmarked or received by March 7, 2008 are assured of being considered in the environmental analysis. The Draft Environmental Impact Statement is expected to be published Summer 2008 and the Final Environmental Impact Statement is scheduled for Winter 2009.

ADDRESSES: Address Comments to: Happy Camp and Oak Knoll Districts Ranger, Attn: Thom-Seider Project, Klamath National Forest, 63822 Highway 96, PO Box 377, Happy Camp, California 96039. You may also send electronic comments to the project e-mail box: comments-pacificsouthwest-klamath-happy-camp@fs.fed.us.

FOR FURTHER INFORMATION CONTACT: Please contact District Ranger Donald M Hall or Interdisciplinary Team Leader Rochelle Desser if you have questions, concerns or suggestions relating to this proposal. You may contact Don at Happy Camp Ranger District Office at 530-493-1723 or at donaldhall@fs.fed.us. Rochelle is available by phone at 531-596-2453 or at rdesser@fs.fed.us.

SUPPLEMENTARY INFORMATION:

Purpose and Need for Action

The Thom-Seider project area contains an overabundance of early- and mid-successional stands that provide limited habitat for species dependent on older forests. Many of these stands are not structurally diverse and are overdense. In some cases, remnant large older trees in the stands have lost vitality due to competition for light and water from the dense understory. In the event of a wildland fire, these dense early- and mid-successional forests are more susceptible to stand replacement fire because of their continuous crowns and the presence of ladder fuels.

Actions to help early to mid successional stands develop old growth characteristics and be less vulnerable to damaging wildland fire include reducing stand density and ground and ladder fuels, and prescribed fire. These actions would also help maintain the older trees currently living in the stand.

The project area is on both sides of the Klamath River and includes river communities such as Hamburg, Seiad Valley, and Happy Camp. The areas that interface between private land and National Forest System lands are a high priority for fuels reduction. Fuels reduction is also important along roads that provide evacuation routes or can be used as fuel breaks in the event of a fire.

Action is needed to reduce tree density and forest competition; reduce ladder fuels that lead to canopy fires; reduce crown fire potential, improve wildlife habitat; and improve probability that early to mid-successional stands will develop into old growth. These actions are particularly important in Late-Successional Reserves established for development of older forest habitats, and in the Wildland Urban Interface (WUI) where the National Forest abuts private property and communities.

Management Direction

The project area includes late-successional reserves, riparian reserves, a wild and scenic river, and roadless areas. Plans, policies and regulations that provide management direction for this project include (not limited to): the Klamath National Forest Land and Resource Management Plan of 1995; the Section 7(a)(1) of the Endangered Species Act; the Healthy Forest Restoration Act; the National Fire Plan; the Roadless Rule of 2001; the Clean Water Act; and the Clean Air Act.

This project is authorized under section 102 of the Healthy Forest Restoration Act of 2003 because it would provide “enhanced protection from catastrophic wildland fire” for the habitat of a threatened species, the northern spotted owl; and a candidate species, the Pacific fisher. Commercial thinning is an allowable exception under Section 294.13(b) of the 2001 Roadless Rule because it involves removal of timber to improve threatened species habitat, it would maintain and restore ecosystem composition and structure, and it would reduce the hazard of uncharacteristic wildland fire effects.

The project is designed to be consistent with all applicable policies and plans. The type of thinning proposed follows Late-Successional Reserve Assessment and Watershed Analysis recommendations. Riparian reserves would be treated where needed to meet Aquatic Conservation Strategy objectives.

Proposed Action

The Proposed Action includes about 22,000 acres of underburning; 2,450 acres of variable density thinning (includes commercial and non-commercial), 2,700 acres of roadside fuels treatment, and 6,150 acres of understory thinning around private properties.

Underburning refers to a range of prescribed burning activities including hand piling, burning small concentrations of debris and slash (jackpot) and low intensity burning under a forest canopy. Approximately 22,000 acres of underburning is proposed. Non-commercial thinning small trees and brush would occur within the underburns as needed to promote effective fuel consumption. Underburning reduces both natural and activity fuel loading, consumes the build up of forest debris and litter, promotes the growth of browse species, encourages grass and forbs, and thins out smaller shade tolerant trees (ladder fuels), thus reducing fire behavior and negative effects from wildland fire. In some cases, small jackpots of trees are consumed to provide a break in the canopy. Burning operations would be accomplished to follow a prescribed burn plan that meets land management objectives and public concerns. A burn and smoke management plan would be implemented to minimize the effects of smoke on adjacent communities and the public.

Variable Density Thinning includes commercial and non-commercial thinning that reduces forest competition and increases diversity in early- to mid-successional forests. It also is intended to increase the longevity of larger, older trees in the stands. Thinning is proposed for the smallest trees in the stand, around individual large trees and in unevenly spaced clumps. Snags would be retained except where there are safety hazards. Approximately 2,450 acres of variable density thinning is proposed.

Commercial thinning is proposed in stands that are accessible from the existing road system and are of a size, age, terrain and structure suitable for logging. Within commercial thinning units, trees greater than 8 inches in diameter would be cut, along with the smaller trees and brush. A total of about 1,950 acres of commercial thinning is currently proposed, including about 1,000 acres within Late-Successional Reserves and about 130 acres within the outer portions of Riparian Reserves. Commercial thinning would be accessed by a combination of the existing road network and helicopters. Approximately 2.6 miles of temporary road in 12 segments located throughout the project area are proposed to more efficiently remove thinned logs.

The land used for temporary roads would be rehabilitated after the project was completed. Logging systems include helicopter and ground based systems. Non-commercial thinning is proposed on about 500 acres, mainly within Late-Successional Reserves. These stands are high priority for thinning because they have overdense understories or excessive ladder fuels; however, the trees are smaller than commercial size (8 inches or less in diameter). These areas may be treated as funds become available.

Roadside Fuel Treatments are proposed along strategic roads that may provide anchors for fire suppression in the event of a wildland fire or access in the event of an evacuation. Approximately 2,700 acres (about 77 miles of roads) are proposed for roadside fuels treatments. Roadside treatments include thinning and pruning of small understory trees (generally < 10″ diameter at breast height, or DBH) and brush with chainsaws along forest roads. The treatment would be on both sides of the roads, generally within 250 feet above roads and 150 feet below roads. Treatment areas along the roads include plantations and natural stands of varying ages and structures. Trees less than 6 inches DBH would generally be left at a spacing of 15 to 20 feet apart, and larger diameter conifers (7″ to 12″ DBH) and most hardwoods would be left 20 to 25 feet apart. The slash created will be hand piled and burned, converted to chips, processed with a masticator if accessible from an existing road, or removed from the site as firewood or other forest products. In areas where fuels objectives cannot be met because there is an excess amount of dead material on the ground, some of this material may also be burned or removed from the site. In addition, incidental larger hazard trees would be felled, if deemed hazards to the crews working on the project. The hazard trees would be felled and left in place, or removed to disposal sites on or adjacent to roads.

The proposed treatments will reduce ladder and ground fuels, providing for reduced fire intensity, rate of spread, and flame lengths in the event of a wildland fire. After the project is completed, the roads will be passable for emergency vehicles during a wildland fire. Treatments are also designed so that the roads could be used as effective fire lines under moderate wildland fire conditions. Fire suppression activities will be safer and more successful in areas that receive this treatment.

The project areas that are adjacent to roads are in a particularly hazardous condition because the road openings allow growing space and additional sunlight to the vegetation, and the bare mineral soil on the road banks makes an excellent bed for thick regeneration. These conditions stimulate the growth of a tree and brush thicket along roads, and larger vegetation often can maintain limbs near ground level with out being shaded out.

Understory Thinning Around Private Land Boundaries is proposed where landowners are willing to perform non-commercial fuels reduction (thinning, brushing and hand piling) on a strip of Forest land 500 feet wide adjacent to their property. Approximately 6,000 acres of private land boundary understory treatments are proposed. The proposed treatment is intended to reduce existing ladder and ground fuels to provide for low intensity fire behavior. These zones create corridors in which the fire hazard is reduced to allow firefighters relatively safe access for wildland fire suppression activities and to allow for increased options during wildland fire suppression activities to reduce fire severity.

Lead and Cooperating Agencies

The Forest Services is the lead agency. Representatives from the Fish and Wildlife Service and NOAA Fisheries are core members of the Interdisciplinary Team.

Responsible Official

The Responsible Official for this project is the Forest Supervisor for the Klamath National Forest, 1312 Fairlane Road, Yreka, California 96097.

Scoping Process

This notice of intent initiates the scoping process, which guides the development of the environmental impact statement. The public is encouraged to take part in the process and visit with Forest Service and Fish and Wildlife officials at any time during the analysis and prior to the decision. The Forest Service will be seeking information, comments and assistance from Federal, State, and local agencies and other individuals or organizations that may be interested in, or affected by, the proposed thinning and underburning project. Three public scoping meetings have been scheduled for February 11, 12 and 13, 2008 in Happy Camp, Seiad Valley and Hamburg respectively. Please contact District Ranger Donald Hall (see previous contact info) for details about the meeting.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement.

Comments may also address the adequacy of the draft environmental impact or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: January 24, 2008.
Patricia A. Grantham,
Acting Forest Supervisor, Klamath National Forest.

[FR Doc. E8-1726 Filed 1-31-08; 8:45 am]

BILLING CODE 3410-11-P